DEPARTMENT OF JUSTICE

Bureau of Prisons

28 CFR Part 511

[BOP Docket No. BOP-1137]

RIN 1120-AB37

Possession or Introduction of Personal Firearms Prohibited on the Grounds of Bureau of Prisons Facilities

AGENCY: Federal Bureau of Prisons, DOJ.

ACTION: Proposed rule.

SUMMARY: To help ensure the safe operation of Federal Prisons, this rule proposes prohibiting all persons from possessing or introducing personal firearms, or attempting, aiding, or abetting possession or introduction of personal firearms, on the grounds of Bureau of Prisons facilities, with exceptions for possession of personal firearms: (1) As required in the performance of official law enforcement duties; (2) on Bureau firing ranges by law enforcement personnel, as authorized by the Warden; and (3) in Warden-designated secure locations by Bureau employees who reside on Bureau grounds.

DATES: Please submit written comments no later than August 7, 2006.

ADDRESSES: Our e-mail address is BOPRULES@BOP.GOV. Comments should be submitted to the Rules Unit, Office of General Counsel, Bureau of Prisons, 320 First Street, NW., Washington, DC 20534. You may view an electronic version of this rule at http://www.regulations.gov. You may also comment via the Internet to BOP at BOPRULES@BOP.GOV or by using the http://www.regulations.gov comment form for this regulation. When submitting comments electronically you must include the BOP Docket No. in the subject box.

SUPPLEMENTARY INFORMATION: To help ensure the safe operation of Federal Prisons, this rule proposes prohibiting all persons from possessing or introducing personal firearms, or attempting, aiding, or abetting possession or introduction of personal firearms, on the grounds of Bureau facilities, with the following exceptions: (1) Personal firearms are permitted as required in the performance of official law enforcement duties; (2) Law enforcement personnel are permitted to possess personal firearms on Bureau firing ranges as authorized by the Warden, where continuous possession and control of the firearm is maintained; and (3) An officer or employee of the Bureau who resides on Bureau grounds may store personal firearms in secure locations designated by the Warden. Residences must not be designated as secure location sites for personal firearms storage.

18 U.S.C. 4042(a) gives the Bureau broad authority to “have charge of the management and regulation of all Federal penal and correctional institutions,” to “provide for the safekeeping, care, and subsistence of all” Federal offenders, and to “provide for the protection, instruction, and discipline of all persons charged with or convicted of offenses against the United States.” This provision authorizes the Bureau to issue regulations for the management of its institutions and for the safekeeping and protection of inmates.

Currently, the Bureau's policy on searching, detaining, and arresting non-inmates requires an easily read sign to be posted at the commonly used entrances into each Bureau facility which indicates that “[i]t is a Federal crime to bring upon the institution grounds any firearm, destructive device, ammunition, other object designed to be used as a weapon, narcotic drug, controlled substance, alcoholic beverage, currency, or any other object without the knowledge and consent of the Warden.” Through this rulemaking, the Bureau proposes to codify this principle.

This regulation is necessary for the following reasons.

• The Bureau needs to clarify that all persons are prohibited from bringing personal firearms onto institution grounds, including storing them in motor vehicles driven onto or parked on institution grounds. Storage of personal firearms in motor vehicles is inadequate because vehicle security is easy to compromise, making firearms so stored accessible to inmates working on institution grounds, inmates being released, and members of the public.

• Personal firearms could be obtained by inmates or members of the public and used to injure persons or assist in inmate escapes.

• Prohibiting personal firearms on institution grounds creates a “buffer zone” between the community, where concealed personal firearms may be allowed, and the actual institution facility, where the presence of unauthorized firearms of any type creates a variety of serious potential management and security problems.

• Creating such a “buffer zone” through regulation will increase attention of Bureau staff and others to this prohibition and the attendant risks, and will reduce inadvertent introductions of personal firearms onto institution grounds.

The Law Enforcement Officers Safety Act of 2004 (Pub. L. 108-277) (LEOSA) now exempts qualified current and retired law enforcement officers from State laws that prohibit carrying concealed personal firearms. Bureau staff employed at Federal penal and correctional institutions may qualify under LEOSA to carry concealed personal firearms in public. Therefore, the possible presence of concealed personal firearms on institution grounds is greater now than before LEOSA and the risk to the safety of inmates, Bureau staff, and the public is likewise heightened, as explained above.

Although we highlight the general prohibition on concealed personal firearms on institution grounds, we also recognize that certain exceptions are necessary. Therefore, this rule will permit personal firearms in furtherance of official law enforcement functions. This exception contemplates only “on-duty” situations, such as instances in which local law enforcement officers are required to serve process at a Bureau institution, or when local law enforcement officers, who sometimes carry only personal firearms, are called upon to respond to emergency situations on Bureau grounds.

The second exception in the rule permits law enforcement personnel to possess personal firearms on Bureau firing ranges as authorized by the Warden, where continuous personal possession and control of the firearm is maintained. This exception will allow staff to continue to have a place to safely and appropriately maintain the skills necessary for proper firearm use, as further regulated by local institutions.

The third exception, permitting Bureau staff who reside on Bureau grounds to store personal firearms in secure locations designated by the Warden, other than residences, recognizes that such staff may simply have no other location to safely store personal firearms outside of Bureau grounds.

To provide more comprehensive institutional security and reduce even further the likelihood that firearms on Bureau grounds will come into the possession of inmates, the Bureau proposes the additional security measures described above.

Regulatory Flexibility Act

The Director, Bureau of Prisons, in accordance with the Regulatory Flexibility Act, 5 U.S.C. 605(b), has reviewed this rule and, by approving it, certifies that it will not have a significant economic impact on a substantial number of small entities.

Executive Order 12866

This rule has been drafted and reviewed in accordance with Executive Order 12866, Regulatory Planning and Review, § 1(b), Principles of Regulation. The Director, Bureau of Prisons, has determined that this rule is a “significant regulatory action” under Executive Order 12866, section 3(f), and accordingly this rule has been reviewed by the Office of Management and Budget.

Executive Order 13132

This rule will not have substantial direct effects on the States, on the relationship between the national government and the States, or on the distribution of power and responsibilities among the various levels of government. This rule will only have minor effect on State law enforcement personnel carrying personal firearms who wish to enter upon Bureau grounds. Therefore, in accordance with Executive Order 13132, it is determined that this rule does not have sufficient federalism implications to warrant the preparation of a federalism summary impact statement.

Executive Order 12988

This regulation meets the applicable standards set forth in sections 3(a) and 3(b)(2) of Executive Order 12988, Civil Justice Reform.

Unfunded Mandates Reform Act of 1995

This rule will not result in the expenditure by State, local, and tribal governments, in the aggregate, or by the private sector, of $100 million or more in any one year, and it will not significantly or uniquely affect small governments. Therefore, no actions were deemed necessary under the provisions of the Unfunded Mandates Reform Act of 1995.

Small Business Regulatory Enforcement Fairness Act of 1996

This rule is not a major rule as defined by section 251 of the Small Business Regulatory Enforcement Fairness Act of 1996 (SBREFA), 5 U.S.C. 804. This rule will not result in an annual effect on the economy of $100 million or more; a major increase in costs or prices; or significant adverse effects on competition, employment, investment, productivity, innovation, or the ability of United States-based companies to compete with foreign-based companies in domestic and export markets.

List of Subjects in 28 CFR Part 511

Prisoners.

Harley G. Lappin,
Director, Bureau of Prisons.

Under rulemaking authority vested in the Attorney General in 5 U.S.C. 301; 28 U.S.C. 509, 510 and delegated to the Director, Bureau of Prisons in 28 CFR 0.96, we propose to amend 28 CFR part 511 as follows.

SUBCHAPTER A—GENERAL MANAGEMENT AND ADMINISTRATION

PART 511—GENERAL MANAGEMENT POLICY

1. Revise the authority citation for 28 CFR part 511 to read as follows:

Authority: 5 U.S.C. 301; 18 U.S.C. 751, 752, 1791, 1792, 1793, 3050, 3621, 3622, 3624, 4001, 4012, 4042, 4081, 4082 (Repealed as to offenses committed on or after November 1, 1987), 5006-5024 (Repealed October 12, 1984 as to offenses committed after that date), 5039; 28 U.S.C. 509, 510; Pub. L. 772, 80th Cong.; 18 U.S.C. 1791 and 4042; Pub. L. 108-277 (18 U.S.C. 926B); 28 CFR part 6.

2. Subpart A is added to read as follows:

Subpart A—Personal Firearms

Sec.
511.1 Possession or introduction of personal firearms prohibited on the grounds of Bureau of Prisons facilities.

§ 511.1 Possession or introduction of personal firearms prohibited on the grounds of Bureau of Prisons facilities.

All persons are prohibited from possessing or introducing personal firearms, or attempting, aiding, or abetting possession or introduction of personal firearms, on the grounds of any Bureau of Prisons (Bureau) facility, with the following exceptions:

(a) Personal firearms are permitted as required in the performance of official law enforcement duties;

(b) Law enforcement personnel are permitted to possess personal firearms on Bureau firing ranges as authorized by the Warden, provided that continuous personal possession and control of the firearm is maintained; and

(c) An officer or employee of the Bureau who resides on Bureau grounds may store personal firearms in secure locations designated by the Warden. Residences must not be designated as secure location sites for personal firearms storage.

[FR Doc. E6-10601 Filed 7-6-06; 8:45 am]

BILLING CODE 4410-05-P